DEPARTMENT OF EDUCATION

[Docket No.: ED-2012-ICCD-0046]

Agency Information Collection Activities; Submission to the Office of Management and Budget for Review and Approval; Comment Request; Fast Response Survey System (FRSS) 105: Condition of Public School Facilities

AGENCY: Department of Education (ED), Institute of Education Sciences (IES).

ACTION: Notice.

SUMMARY: In accordance with the Paperwork Reduction Act of 1995 (44 U.S.C. chapter 3501 et seq.), ED is proposing a new FRSS generic clearance.

DATES: Interested persons are invited to submit comments on or before November 28, 2012.

ADDRESSES: Comments submitted in response to this notice should be submitted electronically through the Federal eRulemaking Portal at http://www.regulations.gov by selecting Docket ID number ED-2012-ICCD-0046 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fast Response Survey System (FRSS) 105: Condition of Public School Facilities.

OMB Control Number: 1850-0733.

Type of Review: Generic information collection.

Respondents/Affected Public: State, Local, or Tribal Governments.

Total Estimated Number of Annual Responses: 4,308.

Total Estimated Number of Annual Burden Hours: 1,052.

Abstract: The National Center for Education Statistics (NCES), U.S. Department of Education (ED), requests OMB approval under the NCES system clearance for the Quick Response Information System (QRIS) (OMB #1850-0733) to conduct data collection for the Fast Response Survey System (FRSS) survey #105 on the condition of public school facilities. Congress has appropriated funds for NCES to conduct an FRSS survey on the condition of public school facilities, with a First Look report on the results to be released in late 2013. FRSS previously conducted a survey on this topic in 1999. The 2012-13 FRSS survey will cover many of the same topics as the 1999 survey, but will use a revised questionnaire. The current survey reflects lessons learned from the 1999 survey, topics and issues identified through literature review, with modifications based on two rounds of feasibility calls and two rounds of pretest calls (OMB# 1850-0803) with public school district personnel most knowledgeable about school facilities. As was done in 1999, schools will be sampled, but surveys will be sent to districts, where facilities personnel and records are located. Changes to questionnaires were made based on the feedback received from pretests. A revised questionnaire is being submitted with this request for OMB clearance.

Dated: October 23, 2012.
Darrin A. King,
Director, Information Collection Clearance Division, Privacy, Information and Records Management Services, Office of Management.

[FR Doc. 2012-26520 Filed 10-26-12; 8:45 am]

BILLING CODE 4000-01-P